DEPARTMENT OF DEFENSE

Department of the Navy

Notice of Intent To Prepare an Environmental Impact Statement/Overseas Environmental Impact Statement for Navy Atlantic Fleet Training and Testing; Correction

AGENCY: Department of the Navy, DoD.

ACTION: Notice; correction.

SUMMARY: The Department of the Navy published a document in the Federal Register (80 FR 218) on November 12, 2015, announcing a Notice of Intent to prepare an Environmental Impact Statement/Overseas Environmental Impact Statement for Navy Atlantic Fleet Training and Testing. The document contained an incorrect date and phone number.

FOR FURTHER INFORMATION CONTACT: Lesley Dobbins-Noble, Naval Facilities Engineering Command, Code EV22LDN (AFTT EIS/OEIS Project Manager), 6506 Hampton Boulevard, Norfolk, Virginia 23508-1278. 757-322-4625.

Correction: In the Federal Register (80 FR 218) of November 12, 2015, on page 69951, in the third column, correct the mailed comments postmarked date and telephone number to read:

1. January 12, 2016; and

2. 757-322-4625.

Dated: November 24, 2015.
N.A. Hagerty-Ford,
Commander, Judge Advocate General's Corps, U.S. Navy, Administrative Law Division, Federal Register Liaison Officer.

[FR Doc. 2015-30498 Filed 11-30-15; 8:45 am]

BILLING CODE 3810-FF-P